DEPARTMENT OF AGRICULTURE
Forest Service
Nebraska National Forest—Bessey and Pine Ridge Ranger Districts, Samuel R. McKelvie National Forest, and Oglala National Grassland Nebraska; Travel Management-Nebraska and Samuel R. McKelvie National Forests and Oglala National Grassland

AGENCY:
Forest Service, USDA.

ACTION:
Notice of intent to prepare an environmental impact statement.

SUMMARY:
The Nebraska National Forest—Bessey and Pine Ridge Ranger Districts, Samuel R. McKelvie National Forest, and Oglala National Grassland are proposing to manage travel, primarily, but not exclusively motorized travel, by implementing limitations on where and when various types of travel can take place on the national forests and national grassland in Nebraska.
Comments received during the recent Land and Resource Management Plan Revision made it clear that the existing travel policy of “open (to motorized travel) unless designated closed,” is unacceptable to a significant segment of national forest and grassland visitors. Forest Service Chief, Dale Bosworth, recently identified unmanaged recreation, primarily Off-Highway Vehicle (OHV) use as one of four major threats to the national forests and grasslands.
In addition, forest budgets for road maintenance do not allow the existing road system to be maintained to the identified standards, and in some cases, negative impacts to resources can be attributed to motorized vehicle use.
The intended effect of implementing limitations on motorized travel on the national forests and grassland in Nebraska will be to reduce user conflicts, reduce road maintenance costs, and reduce resource degradation where it can be attributed to the use of motorized, or non-motorized travel.

DATES:
To be considered in the process of determining the scope of the analysis and finalizing alternatives comments must be received by March 15, 2004. The draft environmental impact statement is expected to be available for review and comment June 2004 and the final environmental impact statement is expected in October 2004.

ADDRESSES:

For additional information, or to send written comments, contact the Travel Management Team Leader, Nebraska National Forest, 125 North Main Street, Chadron, NE, 69337, Attention: Jerry Schumacher. Comments may also be provider electronically by sending them to: comments-rocky-mountain-nebraska@fs.fed.us

FOR FURTHER INFORMATION CONTACT:
For questions or information specific to the Nebraska National Forest—Bessey Ranger District or Samuel R. McKelvie National Forest, contact Patti Barney, District Ranger, USDA Forest Service, Bessey Ranger District, PO Box 39, Halsey, NE 69142-0038, Ph. 308-533-2257. For questions or information specific to the Nebraska National Forest—Pine Ridge ranger District or Oglala National Grassland, contact Charlie Marsh, District Ranger, USDA Forest Service, Pine Ridge Range District, 1240 West 16th St., Chadron, NE 69337-7364. Ph. 308-432-4475.

SUPPLEMENTARY INFORMATION:
The Record of Decision (ROD) for the Nebraska and Samuel R. McKelvie National Forests, Oglala, Buffalo Gap, and Fort Pierre National Grasslands Land and Resource Management Plan (LRMP) was signed on July 31, 2002.

The LRMP Record of Decision directed that motorized travel on the Nebraska National Forest units change from “open unless designated closed,” to “closed unless designated open.” The ROD allowed off-road motorized travel “to continue in compliance with Forest Supervisor special orders for travel restrictions until site-specific analysis with public involvement has been accomplished for the purpose of designating permanent transportation facilities.” (ROD, p. 43).
The Forest Leadership Team agreed to proceed with the analysis for those units located in Nebraska during fiscal year 2004, followed by those units located in South Dakota in FY 2005.
Comments provided during the planning process included many references to values of the public lands in promoting family activities associated with hunting and OHV riding as well as the economic values to neighboring communities from participation in these activities. Others point to the risk to environmental and historic resources. Many focus upon the experiences that are available, for the most part, only on national forests and grasslands. Motorized access contributes to the use and enjoyment of NFS lands to a greater or lesser extent for nearly all users.
Purpose and Need for Action

Need: The need for this Travel Management Plan is to protect the public's national forest and national grassland resources while providing quality outdoor experiences within the capability of the ecosystems and projects funding levels. The scope of the plan includes the Nebraska National Forest, the Samuel R. McKelvie National Forest and the Oglala National Grassland in Nebraska.

Purpose: The purpose of this Travel Management Plan is to identify routes, areas, and times where motorized and non-motorized travel will be allowed on the Nebraska National Forest, the Samuel R. McKelvie National Forest and the Oglala National Grassland in Nebraska.
Proposed Action
Alternative #2—Proposed Action
NNF, Pine Ridge Ranger District and Oglala National Grassland
Motorized Travel
Vehicles over 50″ width or licensed to travel on Nebraska's highways are allowed on all designated Forest System Roads (FSR) on the Pine Ridge Ranger District and Oglala National Grassland.
Vehicles under 50″ width are allowed on one trail on the Pine Ridge (approximately 12 miles) and no Forest System Roads on the Pine Ridge.
All motorized vehicles are allowed to travel off designated roads from january1 6 through August 14 annually on the Oglala National Grassland.
All motorized vehicles are allowed on all designated FSR roads on the Oglala National Grassland. Note: May require a Forest Service Special order.
ATV's as defined by state law are prohibited on those roads and highways under state or county jurisdiction. Those roads are:

FSR 926—Cemetery Road—Sioux County jurisdiction
FSR 904—Old Hwy 2 (Toadstool Road)—questions on jurisdiction (pvt., FS, Dawes, Sioux)
FSR 902—2.5W—Cottonwood Road—Dawes/Sioux County jurisdiction
FSR 905—Sand Creek Road—Sioux County jurisdiction
FSR 907—6.5S—Milo Road—Sioux County jurisdiction
FSR 914—Montrose Road—Sioux County jurisdiction
FSR 915—Edgemont Road—Sioux County jurisdiction
FSR 916—Indian Creek Road—Sioux County jurisdiction
FSR 918—Orella Road—Sioux County jurisdiction
FSR 919—Lone Tree/Snook Roads—Dawes County jurisdiction
FSR 934—McMeekin Road—Dawes County jurisdiction
State Hwy. 2/71, Dawes/Sioux Counties, State of Nebr. jurisdiction

Snow machines are allowed to travel cross-country on the national forest and national grassland except where motorized restrictions apply. They are not allowed on FSR's but may travel parallel to the road.
NNF, Pine Ridge and Oglala National Grassland
Other Travel Restrictions
All travel is prohibited on the trails south of the Cliffs Area between May 15 and July 15, annually.
FSR 733, which accesses Spotted Tail Trailheads, is open from sunrise to sunset only.
Mountain bike trail is allowed only on designated roads and trails outside of Soldier Creek Wilderness on the Pine Ridge.
Bison Trail is open to non-motorized travel only.
Existing FSR's To Be Closed in Part or in Total on the Pine Ridge
718—approximately two miles
725—all—approximately 3 miles
724—approximately one mile
726—approximately 1.5 miles
803—convert to non-motorized trail
804—convert to non-motorized trail
Existing FSR's To Be Closed in Part or in Total on the Oglala National Grassland
931—approximately one mile
929—approximately one mile
923—approximately 1.75 miles
913—approximately 1.75 miles

Pine Ridge District and Oglala National Grassland
[Total = 144,703 total acres]

Number of acres currently with non-motorized status:

Soldier Creek Wilderness
7794

Management area 1.31 Backcountry non-motorized
1830

Pine Ridge NRA (MA 1.31a)
6600

Pine Ridge Trail
173

Special interest areas—non-motorized
2048

Administrative sites
126

Total non-motorized
18,571

Total motorized
126,132

Percent non-motorized
12.8

Alternative #2—Proposed Action
NNF, Bessey Ranger District and Samuel R. McKelvie National Forest
Motorized Travel—Bessey District
Vehicles over 50″ width or licensed for operation on state highways are allowed on:
FSR 201
FSR 203 (Circle Road),
FSR 2211
FSR 212 (Natick Road),
FSR 214
FSR 228
FSR 259 Gaston Road)
FSR 277 (Whitetail Road)
Motorized vehicles 50″ in width and under are the only methods of travel allowed on the Dismal River Trail
All motorized travel allowed on FSR 20a, 211, 214, and 228. May need a Forest Service Special order.
Areas Open to Off-Road Motorized Travel
Hill Climb area on FSR 214 in Section 25 of Stoltenberg Allotment. (10 acres approx.)
Dismal River Play Area between FSR 277 and the Dismal River by Whitetail Campground (10 acres approx.)
Other Travel Restrictions—Bessey Ranger District and Samuel R. McKelvie NF
Horse travel allowed everywhere except Bessey Recreation Complex, Scott Lookout National Recreation Trail, and Porcupine North Allotment.

Foot traffic only is allowed on the Scott Lookout National Recreation Trail. Wheel chairs or other mobility assistance devices required for normal daily activities are allowed.
Horse travel is allowed everywhere on the Samuel R. McKelvie NF except the Bluebird trail and within Steer Creek Campground.
Existing FSR's Closed in Part or in Total on the Bessey Ranger District
FSR 222—totally closed, approximately one mile
FSR 258—totally closed, approximately .75 miles
FSR 263—totally closed, approximately 5 miles
FSR 202—totally closed, approximately 2.5 miles

Bessey Ranger District
[Total acres (90,465)]

Number of acres currently in non-motorized status:

Signal Hill Research Natural Area
504

Scott Lookout National Recreation Trail
22

Seasonal motorized restriction (Sept. 1—Nov. 30)
29,000

Total
29,526

Percent non-motorized
32.6

Motorized Travel—Samuel R. McKelvie National Forest
All motorized travel is allowed on:

FSR 601
FSR 602
FSR 603
FSR 604
FSR 605
FSR 621
FSR 626 to windmill #144 enclosure
Unclassified Road from FSR 603 by windmill #173 to FSR 602 by windmill #153
Unclassified Road from FSR 603 by windmill #223 to FSR 602 near windmill #203

Note:
May require a special order. No off-road motorized travel is allowed.

Existing FSR's closed in part, or in total on the Samuel R. McKelvie NF—None.

Samuel R. McKelvie NF
[Total acres (116,079)]

Number of acres currently in non-motorized status:

Steer Creek Research Natural Area
2500

Total
2500

Percent non-motorized
2.2

Possible Alternatives
The Forest Plan Record of Decision directs that “Motorized use is allowed to continue on existing travel routes until a site-specific analysis with public involvement has been accomplished for the purpose of designating the permanent transportation facilities.”
Preliminary Alternative #1—Existing Condition
All areas are designated as open to travel under current conditions. Motorized travel is allowed wherever and whenever it is not currently restricted. Current restrictions on motorized travel include:
Nebraska National Forest, Pine Ridge District/Oglala National Grassland
Soldier Creek Management Unit—9600 acres
Pine Ridge National Recreation Area and adjacent “keyhole”—6900 acres approx.
Pine Ridge Trail
Bur Oak Enclosure SIA—3 acres
Hudson-Meng Bison Bonebed Special Interest Area (SIA)—40 acres
Toadstool Geologic Park SIA—2000 acres
Quaking Aspen Stand SIA—8 acres

Mechanized travel, such as mountain bikes or game carts, is prohibited in Soldier Creek Wilderness.
Nebraska National Forest, Bessey Ranger District/Samuel R. McKelvie National Forest
Motorized travel within the area enclosed by Circle road (FSR 203) and Natick Road (FSR 212) is allowed on those roads only from September 1 through November 30 annually.
ATV travel is prohibited on:

State Spur 86B
Circle Road (FSR 203)
Gaston Road (FSR 259)
Natick Road (FSR 212)
Whitetail Road (FSR 277) and
The area adjacent to Scott Fire Lookout Tower

Motorized travel is also prohibited in the 500-acre Signal Hill Research Natural Area (RNA)—Bessey Ranger District and the 2500-acre Steer Creek RNA—SR McKelvie NF, except on FSR 601 and 602.
Foot traffic only is allowed on the Scott Lookout National Recreation Trail.
Alternative #3—To Be Developed, if Needed, Upon Completion of Scoping
Responsible Official
There will be two Records of Decision that result from the analysis conducted in this EIS. The responsible official for the travel management decision relating to the Nebraska National Forest, Bessey Ranger District and Samuel R. McKelvie National Forest is District Ranger, Patti Barney, PO Box 39, Halsey, NE 69142-0038, Ph. 308-533-2257.
The responsible official for the decision relating to the Nebraska National Forest, Pine Ridge Ranger District and Oglala National Grassland is District Ranger, Charles R. Marsh, 1240 West 16th St., Chadron, NE 69337-7364, Ph. 308-432-4475.
Nature of Decision To Be Made
The decisions to be made will detail the permanent travel facilities for the Nebraska National Forest, Bessey and Pine Ridge Ranger Districts, Samuel R. McKelvie National Forest; and Oglala National Grassland in Nebraska.
The decisions will designate travelways and areas where specific types of travel are allowed, identify the uses allowed on those travelways/areas, and describe any timing limitations during which specific types of travel are not allowed.
Scoping Process

The scoping process will officially begin with publication of this Notice of Intent in the Federal Register. Prior to its publication, the forest revised its Land and Resource Management Plan (Record of Decision signed July 31, 2002) during the analysis of which there were comments directed toward the topic of travel management. The decision was made to address the topic separately from the Plan revision effort, but comments have been saved from that effort.
Additionally, the quarterly Schedule of Proposed Actions for September and December, 2003 indicated that travel management would be addressed, with a decision expected by October, 2004.
In the summer and fall of 2003, the affected national forest and grassland units began to distribute a contact response form to those forest visitors who wished to be provided with information about upcoming opportunities to participate in the public involvement process.
Six scoping meetings are scheduled across Nebraska at the following places and dates:

January 7, 2004, (5 p.m.-7 p.m. and 7 p.m.-9 p.m.), Chadron State College Student Center, Scottsbluff Room, 10th and Shelton Streets, Chadron, NE
January 8, 2004, (5 p.m.-7 p.m. and 7 p.m.-9 p.m.), Gering Civic Center, 1050 M St., Gering, NE
January 12, 2004, (5 p.m.-7 p.m. and 7 p.m.-9 p.m.), Howard Johnson's Riverside Inn, 3333 Ramada Drive, Grand Island, NE

January 13, 2004, (5 p.m.-7 p.m. and 7 p.m.-9 p.m.), Best Western Villager Courtyard and Gardens, 5200 O Street, Lincoln, NE

January 14, 2004, (5 p.m.-7 p.m. and 7 p.m.-9 p.m.), Lifelong Learning Center, 801 East Benjamin Avenue, Norfolk, NE
January 15, 2004, (5 p.m.-7 p.m. and 7 p.m.-9 p.m.), Holiday Inn Express, 803 East Highway 20, Valentine, NE
January 20, 2004, (5 p.m.-7 p.m. and 7 p.m.-9 p.m.), Stubb's Restaurant Meeting Room, Junction Highways 2 and 83, Thedford, NE
January 21, 2004, (5 p.m.-7 p.m. and 7 p.m.-9 p.m.), Sandhills Convention Center/Quality Inn and Suites, 2102 South Jeffers Street, North Platte, NE
Preliminary Issues
The current road and trail system cannot be maintained to established standards with the current and projected budget allocations.
Unrestricted motorized travel negatively affects the recreation experience of those who are seeking prefer a non-motorized experience. This relates primarily to big game hunting, and to a lesser extent upland hunting, judging from the comments received.
In a few locations, there is evidence that motorized travel is contributing to resource degradation.
The national forests and national grassland are essentially the only public areas in the state where motorized travel is allowed.
Restricting motorized travel could contribute to a decline in rural economies that rely in part upon motorized recreation participation on the national forests and grassland.
Comment Requested

This notice of intent initiates the scoping process which guides the development of the environmental impact statement. A detailed description of the proposed action and available maps can be accessed at http://www.fs.fed.us/r2/nebraska. Comments that are most helpful for the Forest Service in making adjustments to the proposed action are those that provide specific suggestions for changes and include reasons and/or scientific documentation to support the requested changes. Comments that support the proposed action also are most helpful if they clearly describe why the writer favors the actions proposed.
Early Notice of Importance of Public Participation in Subsequent Environmental Review

A draft environmental impact statement will be prepared for comment. The comment period on the draft environmental impact statement will be 45 days form the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important and those interested in the proposed action participate by the close of the 45 day comment period so that substantive comments and objections are made available to the Forest Service at a time when it can meaningfully consider them and respond to them in the final environmental impact statement.
To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.
Comments received, including the names and addresses of those who comment, will be considered part of the public record on this proposal and will be available for public inspection.

(Authority: 40 CFR 1501.7 and 1508.22; Forest Service Handbook 1909.15, Section 21)

Dated: January 20. 2004.
Charlie Marsh,
District Ranger.

[FR Doc. 04-1988 Filed 1-29-04; 8:45 am]
BILLING CODE 3410-CA-M